DEPARTMENT OF THE INTERIOR

Bureau of Land Management

[MT-029-1310-DS CBMP]

Notice of Availability of the Draft Environmental Impact Statement and Amendment of the Powder River and Billings Resource Management Plans (RMPs); Montana

AGENCY: Bureau of Land Management, Miles City and Billings Field Offices, Interior.

ACTION: Notice of availability of the Draft Environmental Impact Statement and amendment of the Powder River and Billings Resource Management Plans (RMPs); Montana.

SUMMARY: In accordance with the Federal Land Policy and Management Act and the National Environmental Policy Act, the Bureau of Land Management (BLM) has prepared a Draft Environmental Impact Statement (EIS) and Resource Management Plan (RMP) Amendment jointly with the State of Montana (State). The BLM's planning area is the oil and gas estate administered by BLM in the Powder River and Billings RMP areas. The Powder River RMP area encompasses the southeastern portion of Montana consisting of Treasure and Powder River counties, and portions of Rosebud, Big Horn, Carter, and Custer counties. There are approximately 2,522,950 BLM-administered oil and gas acres in the Powder River RMP area. The Billings RMP area encompasses the south-central portion of Montana consisting of Wheatland, Golden Valley, Musselshell, Sweet Grass, Stillwater, Yellowstone, and Carbon counties, and the remaining portion of Big Horn County. There are approximately 662,066 BLM-administered oil and gas acres in the Billings RMP area. BLM-administered oil and gas acreage in Blaine, Park, and Gallatin counties is not part of the BLM planning effort. The State's planning area is statewide.

DATES: The 90-day comment period on the Draft EIS and Amendment will begin the date the EPA files a notice in the Federal Register (anticipated February 15, 2002).

ADDRESSES: You may submit your comments by any one of several methods. You may mail or hand-deliver comments to: Bureau of Land Management, Mary Bloom, Project Manager, Miles City Field Office, 111 Garryowen Road, Miles City, MT 59301. You may also comment electronically to: coalbed_methane@state.mt.us. Your name and return mailing address must be included in your electronic message. BLM's practice is to make comments, including names and home addresses of respondents, available for public review during regular business hours. If you wish to withhold your name or street address from public review or from disclosure under the Freedom of Information Act, you must state this prominently at the beginning of your written comment. Such requests will be honored to the extent allowed by law. All submissions from organizations and businesses and from individuals identifying themselves as representatives or officials of organizations or businesses will be available for public inspection in their entirety.

FOR FURTHER INFORMATION CONTACT: Mary Bloom, Coal Bed Methane Project Manager, Bureau of Land Management, 111 Garryowen Road, Miles City, MT 59301, (406) 233-3649.

SUPPLEMENTARY INFORMATION: The Draft EIS and Amendment project is a joint effort between the BLM and the State. It is being prepared to analyze impacts to lands and resources as a result of proposed oil and gas development, primarily coal bed methane. The current Powder River and Billings RMPs, as amended by BLM's 1994 “Oil and Gas Amendment of the Billings, Powder River, and South Dakota RMPs”, support limited conventional oil and gas development and limited coal bed methane exploration and production. About 9,500 conventional oil and gas wells (all ownership categories) are located in the planning area. An October 18, 2000 meeting of the Coal Bed Methane Coordination Group indicated that industry projects an interest in drilling approximately 10,000 coal bed methane wells in the Montana portion of the Powder River Basin over the next 10 years, in addition to an unspecified number of conventional oil and gas wells.

The Draft EIS and Amendment is being prepared to analyze this increased interest in oil and gas activity. Five alternative management scenarios developed by BLM and the State present a range of feasible management actions to address the issues: Alternative A—existing management (No Action); Alternative B—emphasize soil, water, air, vegetation, wildlife, and cultural resources protection; Alternative C—emphasize coal bed methane development; Alternative D—encourage coal bed methane exploration and development while maintaining existing land uses; and Alternative E—the BLM and State Preferred Alternative, which combines features of Alternatives A through D and manages development of CBM in an environmentally sound manner. The Draft EIS discloses the environmental consequences of each alternative.

A copy of the Draft EIS and Amendment has been sent to all individuals, agencies, and groups who have expressed interest or as required by regulation or policy. Copies are also available upon request from the BLM at the address listed above.

Public Participation

There has been continual public participation throughout the EIS process. A Notice of Intent to prepare the EIS was published in the Federal Register on December 19, 2000, initiating a 30-day public scoping period. The scoping period closed January 31, 2001, after a two-week extension. Public scoping meetings were held at Broadus, Miles City, Ashland, Billings, and Helena, Montana from January 4 through January 11, 2001. A brochure was mailed May, 2001 updating the public on the status of the Draft EIS and Amendment.

Four designated cooperating agencies are also helping BLM and the State prepare the EIS: The Bureau of Indian Affairs, the United States Department of Energy, the Crow Tribe, and the United States Environmental Protection Agency. The Northern Cheyenne Tribe declined to become a cooperating agency, but has been invited by BLM to participate in all cooperating agency activities. Consultation with both the Crow and Northern Cheyenne tribes has taken place throughout the process to gather their input and concerns. Consultation with FWS has been initiated, and the BLM has also met with individuals from the general public, special interest groups, industry, and local governments upon their request. The Coal Bed Methane Coordination Group, whose purpose is to share information on coal bed methane, consists of representatives from local governments, special interest groups, the tribes, other federal agencies, industry, ranchers, and the State. The group has shared its concerns with BLM and remains updated on the EIS. In addition, the State has held monthly coordination calls with the BLM and with the public invited to listen in.

The BLM and the State will conduct public hearings across Montana (anticipated in April 2002) on the Draft EIS and Amendment. The time and locations of the hearings will be announced in local news releases.

To help BLM identify and consider issues and concerns on the alternatives, comments on the Draft EIS and Amendment should be as specific as possible; for example, comments should refer to specific pages or chapters in the document. After the comment period ends, all comments will be analyzed and considered by the BLM in preparing the Final EIS.

Dated: January 11, 2002.
Fred Wambolt,
Acting Field Manager.

[FR Doc. 02-3692 Filed 2-13-02; 8:45 am]

BILLING CODE 4310-$$-P